DEPARTMENT OF DEFENSE

Office of the Secretary

[Docket ID: DoD-2021-OS-0097]

Submission for OMB Review; Comment Request

AGENCY: Office of the Under Secretary of Defense for Personnel and Readiness (USD(P&R)), Department of Defense (DoD).

ACTION: 30-Day information collection notice.

SUMMARY: The Department of Defense has submitted to OMB for clearance the following proposal for collection of information under the provisions of the Paperwork Reduction Act.

DATES: Consideration will be given to all comments received by February 14, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION: Title; Associated Form; and OMB Number: National Language Service Corps Application and Assessment; DD Form 2932, DD Form 2933, DD Form 2934; OMB Control Number 0704-0449.

Type of Request: Regular.

Number of Respondents: 1,700.

Responses per Respondent: 3.

Annual Responses: 5,100.

Average Burden per Response: 12 minutes.

Annual Burden Hours: 1,020 hours.

Needs and Uses: The National Language Service Corps (NLSC) recruits from the general public and enrolls individuals who would like to volunteer their language skills. The NLSC identifies U.S. citizens who can provide high levels of proficiency in foreign languages and cultural expertise critical to national security for short-term temporary assignments when other resources are not available. The NLSC will fill gaps between requirements of DoD or other departments or agencies of the United States and available language skills where government employees are required or desired. The NLSC will reach out to U.S. citizens (age 18 or over) who can read, listen, speak, and write in English and read, listen, write and speak at least one other specified language, generally at or above skill level 3 as described by the proficiency guidelines of the Federal Interagency Language Roundtable (ILR). The DoD and the Intelligence Community agencies use these guidelines as the basis for language skill requirements identification, position descriptions, readiness indices and language bonus pay systems. Therefore, the ILR proficiency guidelines represent a common metric used by U.S. Government agencies as a basis for policy, planning and human capital decisions in operational, mission critical areas where language is required.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: January 11, 2022.
Aaron T. Siegel,
Alternate OSD Federal Register, Liaison Officer, Department of Defense.

[FR Doc. 2022-00715 Filed 1-13-22; 8:45 am]

BILLING CODE 5001-06-P